DEPARTMENT OF ENERGY

Federal Energy Regulatory Commission

[Project No. 190-105]

Moon Lake Electric Association, Inc.; Notice Soliciting Scoping Comments

Take notice that the following hydroelectric application has been filed with the Commission and is available for public inspection.

a. Type of Application: Minor, new license.

b. Project No.: P-190-105.

c. Date filed: January 31, 2017.

d. Applicant: Moon Lake Electric Association, Inc.

e. Name of Project: Uintah Hydroelectric Project.

f. Location: The project is located near the Town of Neola, Duchesne County, Utah and diverts water from primarily the Uintah River as well as Big Springs Creek and Pole Creek. All project features, with the exception of a 0.4-acre portion of transmission line, are located entirely on the tribal lands of the Uintah and Ouray Native American Reservation and federal lands managed by Ashley National Forest.

g. Filed Pursuant to: Federal Power Act 16 U.S.C. 791 (a)-825(r).

h. Applicant Contact: Patrick Corun, Engineering Manager, Moon Lake Electric Association, Inc., 800 West U.S. Hwy. 40, Roosevelt, Utah 84066, (435) 722-5406, pcorun@mleainc.com.

i. FERC Contact: Quinn Emmering, (202) 502-6382, quinn.emmering@ferc.gov.

j. Deadline for filing scoping comments: March 14, 2019.

The Commission strongly encourages electronic filing. Please file scoping comments using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE, Washington, DC 20426. The first page of any filing should include docket number P-190-105.

k. This application is not ready for environmental analysis at this time.

l. The Uintah Hydroelectric Project operates as a run-of-river facility delivering water to the project facilities from three sources: The Uintah River, Big Springs Creek, and Pole Creek. The existing project facilities include: (1) The 8-foot-wide, 4-foot-deep, 1,100-foot-long earthen Big Springs canal that conveys flow from Big Springs Creek; (2) a stop-log diversion structure on the Big Springs canal that conveys flow to a 916-foot-long, 28-inch diameter, steel pipeline that connects to the point of diversion on the Uintah River; (3) an 80-foot-long, 4-foot-wide, 3-foot-high overflow-type concrete diversion structure with a 10-foot-high, 6.5-foot-wide steel slide gate on the Uintah River; (4) a concrete structure with manual slide gates for dewatering the main supply canal and returning water to the Uintah River immediately downstream of the Uintah diversion; (5) an emergency slide gate about midway along the main supply canal; (6) a 16-foot-wide, 8-foot-deep, 25,614-foot-long, clay-lined main supply canal which conveys water from Big Springs Creek and the Uintah River; (7) a stop-log diversion structure with non-functional control gates which diverts water from Pole Creek; (8) a 6-foot-wide, 4-foot-deep, 6,200-foot-long Pole Creek canal that collects water from the Pole Creek diversion; (9) an 86-inch-wide, 80-inch-long, 43-inch-high transition bay and a 140-foot-long, 14-inch diameter steel penstock collects water from the Pole Creek supply canal; (10) a 23-foot by 13-foot concrete forebay structure containing trashracks with 2.5-inch spacing, a headgate that is located at the termination of the main supply canal and the Pole Creek penstock, and an overflow channel; (11) a single 5,238-foot-long, 36-inch diameter polyurethane and steel penstock which delivers water to a concrete powerhouse with two Pelton turbines driving two 600-kilowatt generators; (12) a 600-foot-long tailrace; (13) a 4.75-mile-long, 24.9-kilovolt single wood pole distribution line; and (14) appurtenant facilities. The estimated average annual generation is about 6,073 megawatt-hours. The licensee proposes to modify the project boundary to account for an update to the project transmission line that reduced its total length from 8.5 miles to 4.75 miles.

m. A copy of the application is available for review at the Commission in the Public Reference Room or may be viewed on the Commission's website at http://www.ferc.gov using the “eLibrary” link. Enter the docket number excluding the last three digits in the docket number field to address the document. For assistance, contact FERC Online Support. A copy is available for inspection and reproduction at the address in Item H above.

n. You may also register online at http://www.ferc.gov/docs-filing/esubscription.asp to be notified via email of new filings and issuances related to this or other pending projects. For assistance, contact FERC Online Support.

o. Scoping Process: The Commission staff intends to prepare an Environmental Assessment (EA) for the Uintah Hydroelectric Project in accordance with the National Environmental Policy Act. The EA will consider both site-specific and cumulative environmental impacts and reasonable alternatives to the proposed action.

Commission staff does not propose to conduct any on-site scoping meetings at this time. Instead, we are soliciting comments, recommendations, and information, on the Scoping Document (SD) issued on February 11, 2019.

Copies of the SD outlining the subject areas to be addressed in the EA were distributed to the parties on the Commission's mailing list and the applicant's distribution list. Copies of the SD may be viewed on the web at http://www.ferc.gov using the “eLibrary” link. Enter the docket number excluding the last three digits in the docket number field to access the document. For assistance, call 1-866-208-3676 or for TTY, (202) 502-8659.

Dated: February 11, 2019.
Kimberly D. Bose,
Secretary.

[FR Doc. 2019-02710 Filed 2-19-19; 8:45 am]

BILLING CODE 6717-01-P